DEPARTMENT OF HOUSING AND URBAN DEVELOPMENT

[Docket No. FR-4849-N-02]

Notice of Proposed Information Collection: Comment Requested; Report of Additional Classification and Wage Rate

AGENCY: Office of Departmental Operations and Coordination, Office of Labor Relations, HUD.

ACTION: Notice.

SUMMARY: The proposed information collection requirement described below will be submitted to the Office of Management and Budget (OMB) for review, as required by the Paperwork Reduction Act. The Department is soliciting public comments on the subject proposal.

DATES: Comments Due Date: June 20, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 800a, Washington, DC 20410 or Wayne_Eddins@HUD.gov.

FOR FURTHER INFORMATION CONTACT: Jade Banks, Senior Policy Advisor, Office of Labor Relations, Department of Housing and Urban Development, 451 Seventh Street, Southwest, Washington, DC 20410; Jade_M._Banks@hud.gov; telephone (202) 708-0370 (this is not a toll-free number) for copies of the proposed forms and other available information.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Report of Additional Classification and Wage Rate.

OMB Control Number, if applicable: 2501-0011.

Description of the need for the information and proposed use:Contractors and subcontractors engaged on HUD-assisted construction projects subject to Davis-Bacon wage requirements must pay no less than the wages determined to be prevailing by the Secretary of Labor to all laborers and mechanics engaged in the construction work. Occasionally, the Davis-Bacon wage determination applicable to the construction work does not contain a prevailing wage rate for all classifications of work needed to complete the work. In such cases, the contractor or subcontractor that will employ the classification(s) missing from the wage determination must propose a wage rate for such classification(s) for the consideration of the Department of Labor (DOL) with respect to that construction work. HUD and local agencies that administer HUD-assisted programs use the form HUD-4230A to record and submit the contractor or subcontractor's additional classification and wage rate request to the DOL. The contractor or subcontractor may itself complete the form HUD-4230A or may submit its request in writing to HUD or the local agency involved; HUD or the local agency will transcribe the request to the form for submission to the DOL. HUD is modifying the form to better identify the applicable Davis-Bacon wage determination and the construction work involved. The modifications will not affect the amount of time required to complete the information collection.

Agency form numbers, if applicable: HUD-4230A.

Estimation of the total number of hours needed to prepare the information collection including number of respondents, frequency of response, and hours of response: An estimation of the total numbers of hours needed to prepare the information collection is 1,000, number of respondents is 500, frequency of response is on occasion, and the hours per response is 2. Recordkeeping requirements will add an additional hour for a total of 1,500 hours per year.

Status of the proposed information collection: Reinstatement with change of previously approved collection for which approval has expired.

Authority: Section 3506 of the Paperwork Reduction Act of 1995, 44 U.S.C. Chapter 35, as amended.

Dated: April 9, 2003.
Frank L. Davis,
Director, Office of Departmental Operations and Coordination.

[FR Doc. 03-9805 Filed 4-18-03; 8:45 am]

BILLING CODE 4210-18-P